FEDERAL COMMUNICATIONS COMMISSION

47 CFR Part 73

[MB Docket No. 13-40, RM-11691; DA 13-160]

Television Broadcasting Services; Seaford, Delaware and Dover, Delaware

AGENCY: Federal Communications Commission.

ACTION: Proposed rule.

SUMMARY: The Commission has before it a petition for rulemaking filed by Western Pacific Broadcast, LLC (“Western Pacific”), the permittee of unbuilt station WMDE(TV), Channel 5, Seaford, Delaware, requesting an amendment of the DTV Table of Allotments to delete Channel 5 at Seaford and substitute Channel 5 at Dover, Delaware. Western Pacific further requests modification of WMDE(TV)'s construction permit to specify Dover, Delaware as the station's community license and seeks a waiver of the Commission's freeze on the filing of petitions for rulemaking by televisions stations seeking to change their community of license. Western Pacific asserts that its proposal to reallot Channel 5 to Dover is based on the technical specifications currently authorized for WMDE(TV), and therefore the new allotment will be mutually exclusive with the station's existing allotment. Western Pacific further states that its proposal meets the Commission's allotment priorities by providing Dover with its first local television service, and that Seaford will remain well-served after the reallotment because full-power noncommercial station WDPB(TV), Channel *44, will remain licensed to that community. Therefore, Western Pacific submits that this rulemaking will serve the public interest.

DATES: Comments must be filed on or before April 3, 2013, and reply comments on or before April 18, 2013.

ADDRESSES: Federal Communications Commission, Office of the Secretary, 445 12th Street SW., Washington, DC 20554. In addition to filing comments with the FCC, interested parties should serve counsel for petitioner as follows: M. Scott Johnson and Daniel A. Kirkpatrick, Fletcher, Heald & Hildreth, P.L.C., 1300 North 17th Street, 11th Floor, Arlington, VA 22209.

FOR FURTHER INFORMATION CONTACT: Peter Saharko, Peter.Saharko@fcc.gov, Media Bureau, (202) 418-1856.

SUPPLEMENTARY INFORMATION: This is a synopsis of the Commission's Notice of Proposed Rule Making, MB Docket No. 13-40, adopted February 12, 2013, and released February 13, 2013. The full text of this document is available for public inspection and copying during normal business hours in the FCC's Reference Information Center at Portals II, CY-A257, 445 12th Street SW., Washington, DC, 20554. This document will also be available via ECFS (http://www.fcc.gov/cgb/ecfs/). (Documents will be available electronically in ASCII, Word 97, and/or Adobe Acrobat.) This document may be purchased from the Commission's duplicating contractor, Best Copy and Printing, Inc., 445 12th Street SW., Room CY-B402, Washington, DC 20554, telephone 1-800-478-3160 or via email www.BCPIWEB.com. To request this document in accessible formats (computer diskettes, large print, audio recording, and Braille), send an email to fcc504@fcc.gov or call the Commission's Consumer and Governmental Affairs Bureau at (202) 418-0530 (voice), (202) 418-0432 (TTY). This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding. Members of the public should note that from the time a Notice of Proposed Rule Making is issued until the matter is no longer subject to Commission consideration or court review, all ex parte contacts (other than ex parte presentations exempt under 47 CFR 1.1204(a)) are prohibited in Commission proceedings, such as this one, which involve channel allotments. See 47 CFR 1.1208 for rules governing restricted proceedings.

For information regarding proper filing procedures for comments, see 47 CFR 1.415 and 1.420.

List of Subjects in 47 CFR Part 73

Television, Television broadcasting.

Federal Communications Commission
Barbara A. Kreisman,
Chief, Video Division, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 303, 334, 336, and 339.

§ 73.622 [Amended]

2. Section 73.622(i), the Post-Transition Table of DTV Allotments under Delaware is amended by removing channel 5 from Seaford and adding channel 5 at Dover.

[FR Doc. 2013-04832 Filed 3-1-13; 8:45 am]

BILLING CODE 6712-01-P